DEPARTMENT OF TRANSPORTATION

Office of the Secretary

Aviation Proceedings, Agreements Filed the Week Ending August 25, 2006

The following Agreements were filed with the Department of Transportation under the sections 412 and 414 of the Federal Aviation Act, as amended (49 U.S.C. 1382 and 1384) and procedures governing proceedings to enforce these provisions. Answers may be filed within 21 days after the filing of the application.

Docket Number: OST-2006-25707.

Date Filed: August 22, 2006.

Parties: Members of the International Air Transport Association.

Subject: TC2 Europe-Middle East Resolutions and Specified Fares Tables (Memo 0226), Intended effective date: 1 January 2007.

Docket Number: OST-2006-25716.

Date Filed: August 23, 2006.

Parties: Members of the International Air Transport Association.

Subject: TC2 Within Middle East Resolutions and Specified Fares Tables (Memo 0164), Intended effective date: 1 January 2007.

Docket Number: OST-2006-25717.

Date Filed: August 23, 2006.

Parties: Members of the International Air Transport Association.

Subject: TC23/123 Middle East-TC3 Mail Vote 504, Special Passenger Amending Resolution 010w, From Pakistan to Jeddah (Memo 0300), Intended effective date: 01 September 2006.

Docket Number: OST-2006-25718.

Date Filed: August 23, 2006.

Parties: Members of the International Air Transport Association.

Subject: TC2 Europe-Africa Mail Vote 505, Special Passenger Amending Resolution 010x, From Libya to Europe, Middle East, (Memo 0239/Memo 0147), Intended effective date: 7 September 2006.

Docket Number: OST-2006-25726.

Date: Filed August 24, 2006.

Parties: Members of the International Air Transport Association.

Subject: TC12 North Atlantic Canada-Europe, Resolutions and Specified Fares Tables (Memo 0122), Minutes: TC12 North Atlantic Canada, USA-Europe Minutes, (Memo 0123), Intended effective date: 1 November 2006.

Docket Number: OST-2006-25727.

Date Filed: August 24, 2006.

Parties: Members of the International Air Transport Association.

Subject: TC12 North Atlantic USA-Europe and Mail Vote 493, (except Austria, Belgium, Czech Republic, Finland, France, Germany, Iceland, Italy, Netherlands, Scandinavia, Switzerland), (Memo 0195), Technical Correction: TC12 North Atlantic USA-Europe and Mail Vote 493, (Memo 0196), Minutes: TC12 North Atlantic Canada, USA-Europe Minutes, (Memo 0197), Intended effective date: 1 November 2006.

Renee V. Wright,
Program Manager, Docket Operations, Federal Register Liaison.

[FR Doc. 06-7789 Filed 9-19-06; 8:45 am]

BILLING CODE 4910-9X-P